DEPARTMENT OF ENERGY

10 CFR Part 430

[Docket No. EERE-2025-BT-STD-0038]

RIN 1904-AG03

Energy Conservation Program: Energy Conservation Standards for Consumer Furnace Fans

AGENCY: Office of Energy Efficiency and Renewable Energy, Department of Energy.

ACTION: Request for information.

SUMMARY: The Department of Energy (DOE or the Department) is considering whether to revise its existing regulations regarding the energy conservation standards for consumer furnace fans adopted under the Energy Policy and Conservation Act (EPCA). DOE is initiating this effort through this request for information (RFI) to invite public input on appropriate standard levels that are technologically feasible, economically justified, and result in significant conservation of energy.

DATES: Comments: Written comments and information are requested and will be accepted on or before June 16, 2025.

ADDRESSES: Interested persons are encouraged to submit comments using the Federal eRulemaking Portal at www.regulations.gov under docket number EERE-2025-BT-STD-0038. Follow the instructions for submitting comments. Alternatively, interested persons may submit comments, identified by docket number EERE-2025-BT-STD-0038 and or regulatory identification number (RIN) 1904-AG03, by any of the following methods:

(1) Email: FurnaceFans2025STD0038@ee.doe.gov. Include the docket number EERE-2025-BT-STD-0038 and/or RIN 1904-AG03 in the subject line of the message. Submit electronic comments in WordPerfect, Microsoft Word, PDF, or ASCII file format, and avoid the use of special characters or any form of encryption.

(2) Postal Mail: Appliance and Equipment Standards Program, U.S. Department of Energy, Building Technologies Office, Mailstop EE-5B, 1000 Independence Avenue SW, Washington, DC 20585-0121. If possible, please submit all items on a compact disc (CD), in which case it is not necessary to include printed copies.

(3) Hand Delivery/Courier: Appliance and Equipment Standards Program, U.S. Department of Energy, Building Technologies Office, 1000 Independence Avenue SW, Washington, DC 20585-0121. Telephone: (202) 287- 1445. If possible, please submit all items on a CD, in which case it is not necessary to include printed copies.

No telefacsimiles (faxes) will be accepted. For detailed instructions on submitting comments and additional information on this process, see section IV (Public Participation) of this document.

Docket: The docket for this rulemaking, which includes Federal Register notices, comments, and other supporting documents and materials, is available for review at www.regulations.gov. All documents in the docket are listed in the www.regulations.gov index. However, not all documents listed in the index may be publicly available, such as information that is exempt from public disclosure.

The docket web page can be found at www.regulations.gov/docket/EERE-2025-BT-STD-0038. The docket web page contains instructions on how to access all documents, including public comments, in the docket, as well as a summary of the rulemaking. See section IV, “Public Participation,” for further information on how to submit comments through www.regulations.gov. In accordance with 5 U.S.C. 553(b)(4), a summary of this rule may be found at regulations.gov, under the docket number EERE-2025-BT-STD-0038.

FOR FURTHER INFORMATION CONTACT: Mr. David Taggart, U.S. Department of Energy, Office of the General Counsel, GC-1, 1000 Independence Avenue SW, Washington, DC 20585-0121. Telephone: (202) 586-5281. Email: DOEGeneralCounsel@hq.doe.gov.

For further information on how to submit a comment or review other public comments and the docket, contact the Appliance and Equipment Standards Program staff at (202) 287-1445 or by email: ApplianceStandardsQuestions@ee.doe.gov.

SUPPLEMENTARY INFORMATION:

Table of Contents

I. Authority

II. Background

III. Discussion

IV. Public Participation

V. Approval of the Office of the Secretary

I. Authority

Among other things, EPCA, Public Law 94-163 (42 U.S.C. 6291-6317, as codified), authorizes DOE to regulate the energy efficiency of a number of consumer products and certain industrial equipment.¹ Title III, Part B ² of EPCA established the Energy Conservation Program for Consumer Products Other Than Automobiles. These products include consumer furnace fans,³ the subject of this document. 42 U.S.C. 6295(f)(4)(D). Specifically, EPCA directed DOE to establish energy conservation standards for electricity used for the purpose of circulating air through ductwork. Id.

¹ All references to EPCA in this document refer to the statute as amended through the Energy Act of 2020, Public Law 116-260 (Dec. 27, 2020), which reflects the last statutory amendments that impact Parts A and A-1 of EPCA.

² For editorial reasons, upon codification in the U.S. Code, Part B was redesignated Part A.

³ The statute directs DOE to prescribe energy conservation standards or energy use standards for “electricity used for purposes of circulating air through duct work.” DOE colloquially refers to such products as “furnace fans.”

The energy conservation program under EPCA consists essentially of four parts: (1) testing; (2) labeling; (3) the establishment of Federal energy conservation standards, and (4) certification and enforcement procedures. Relevant provisions of EPCA specifically include definitions (42 U.S.C. 6291), test procedures (42 U.S.C. 6293), labeling provisions (42 U.S.C. 6294), energy conservation standards (42 U.S.C. 6295), and the authority to require information and reports from manufacturers (42 U.S.C. 6296).

Federal energy efficiency requirements for covered products established under EPCA generally supersede State laws and regulations concerning energy conservation testing, labeling, and standards. 42 U.S.C. 6297(a)-(c). DOE may, however, grant waivers of Federal preemption in limited circumstances for particular State laws or regulations, in accordance with the procedures and other provisions set forth under EPCA. 42 U.S.C. 6297(d).

Subject to certain criteria and conditions, DOE is required to develop test procedures to measure the energy efficiency, energy use, or estimated annual operating cost of each covered product. 42 U.S.C. 6295(o)(3)(A);42 U.S.C. 6295(r). The DOE test procedures for consumer furnace fans appear at title 10 CFR part 430, subpart B, appendix AA.

Not later than six years after the issuance of any final rule establishing or amending a standard, DOE must publish either a notice of proposed determination (NOPD) that standards for the product do not need to be amended, or a NOPR including new proposed energy conservation standards (proceeding to a final rule, as appropriate). 42 U.S.C. 6295(m)(1),(3). EPCA further provides that, not later than three years the issuance of a final determination not to amend standards, DOE must publish either a notification of determination that standards for the product do not need to be amended, or a NOPR including new proposed energy conservation standards (proceeding to a final rule, as appropriate). 42 U.S.C. 6295(m)(3)(B). DOE must make the analysis on which a NOPD or NOPR is based publicly available and provide an opportunity for written comment. 42 U.S.C. 6295(m)(2).

II. Background

DOE completed the rulemaking required under 42 U.S.C. 6295(f)(4)(D) by publishing a final rule in the Federal Register on July 3, 2014 (“July 2014 Final Rule”), through which the Department prescribed the current energy conservation standards for consumer furnace fans manufactured on and after July 3, 2019. 79 FR 38130. These standards are set forth in DOE's regulations at 10 CFR 430.32(y) and are shown in Table II.1.

Table II.1—Federal Energy Conservation Standards for Consumer Furnace Fans
Furnace fan product class * | Fan energy rating ** (watts/1,000 cubic feet per minute (“cfm”))
Non-Weatherized, Non-Condensing Gas (“NWG-NC”) | FER = 0.044 * Qmax + 182
Non-Weatherized, Condensing Gas (“NWG-C”) | FER = 0.044 * Qmax + 195
Weatherized, Non-Condensing Gas (“WG-NC”) | FER = 0.044 * Qmax + 199
Non-Weatherized, Non-Condensing Oil Furnace Fan (“NWO-NC”) | FER = 0.071 * Qmax + 382
Non-Weatherized Electric Furnace/Modular Blower Fan (“NWEF/NWMB”) | FER = 0.044 * Qmax + 165
Mobile Home Non-Weatherized, Non-Condensing Gas Furnace Fan (“MH-NWG-NC”) | FER = 0.071 * Qmax + 222
Mobile Home Non-Weatherized, Condensing Gas Furnace Fan (“MH-NWG-C”) | FER = 0.071 * Qmax + 240
Mobile Home Electric Furnace/Modular Blower Fan (“MH-EF/MB”) | FER = 0.044 * Qmax + 101
Mobile Home Non-Weatherized Oil Furnace Fan (“MH-NWO”) | Reserved
Mobile Home Weatherized Gas Furnace Fan (“MH-WG”) | Reserved
* Furnace fans incorporated into hydronic air handlers, small-duct high-velocity (“SDHV”) modular blowers, SDHV electric furnaces, and central air conditioners/heat pump indoor units are not subject to the standards listed in this table. See section IV.A.1 of this document for further discussion.
** Qmax is the airflow, in cfm, at the maximum airflow-control setting measured using the final DOE test procedure at 10 CFR part 430, subpart B, appendix AA.

DOE most recently completed a six-year-lookback review of the subject consumer furnace fans standards in a final determination published in the Federal Register on October 18, 2024 (“October 2024 Final Determination”). In that document, DOE determined that the energy conservation standards for consumer furnace fans (as adopted in the July 2014 Final Rule) do not need to be amended. 89 FR 83990.

III. Discussion

DOE is considering potential amendments to the energy conservation standards for consumer furnace fans codified at 10 CFR 430.32(y). The Secretary's is proposing a new policy to reduce regulatory burden wherever possible. Unless a regulatory standard is required by statute, the Secretary proposes eliminating that requirement. In this case, DOE was directed by Congress to adopt standards for consumer furnace fans, but the Department is revisiting levels set in the July 2014 Final Rule to determine whether they continue to be economically justified in light of DOE's new policy supporting energy and water abundance, allowing Americans to produce and consume as much energy and water as they desire.

Consequently, DOE seeks public input as to the prior rule's consistency with the applicable statutory requirements, the prior rule's analysis of costs and benefits, and the prior rule's effect on innovation, development, and private enterprise. DOE also seeks public input as to alternative standard levels for consumer furnace fans which would be technologically feasible, economically justified, and result in significant energy savings, as required by EPCA (please provide any supporting rationale and data).

DOE may consider standard levels both higher and lower than those currently set forth in 10 CFR 430.32(y). Although the statute provides at 42 U.S.C. 6295(o)(1) that “[t]he Secretary may not prescribe any amended standard which increases the maximum allowable energy use . . . or decreases the minimum required energy efficiency, of a covered product” (colloquially referred to as the “anti-backsliding provision”), DOE notes that this provision only applies to “covered products.” “Covered product” is defined at 42 U.S.C. 6291(2) as “a consumer product of a type specified in section 6292 of this title.” Consumer furnace fans are not included in 42 U.S.C. 6292, so accordingly, appear not to be subject to EPCA's anti-backsliding restriction.

IV. Public Participation

DOE will accept comments, data, and information regarding this proposed rule no later than the date provided in the DATES section at the beginning of this document. Interested parties may submit comments, data, and other information using any of the methods described in the ADDRESSES section at the beginning of this document.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments.

Do not submit to www.regulations.gov information for which disclosure is restricted by statute, such as trade secrets and commercial or financial information (hereinafter referred to as Confidential Business Information (CBI)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email, hand delivery/courier, or postal mail. Comments and documents submitted via email, hand delivery/courier, or postal mail also will be posted to www.regulations.gov. If you do not want your personal contact information to be publicly viewable, do not include it in your comment or any accompanying documents. Instead, provide your contact information in a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. No telefacsimiles (faxes) will be accepted.

Comments, data, and other information submitted to DOE electronically should be provided in PDF (preferred), Microsoft Word or Excel, WordPerfect, or text (ASCII) file format. Provide documents that are not secured, that are written in English, and that are free of any defects or viruses. Documents should not contain special characters or any form of encryption, and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email, postal mail, or hand delivery/courier two well-marked copies: one copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

V. Approval of the Office of the Secretary

The Secretary of Energy has approved publication of this request for information.

List of Subjects in 10 CFR Part 430

Administrative practice and procedure, Confidential business information, Energy conservation, Household appliances, Imports, Intergovernmental relations, Reporting and recordkeeping requirements, Small businesses.

Signing Authority

This document of the Department of Energy was signed on May 9, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 9, 2025.
Treena V. Garrett,
Federal Register Liaison Officer, U.S. Department of Energy.

[FR Doc. 2025-08583 Filed 5-12-25; 9:30 am]

BILLING CODE 6450-01-P